DEPARTMENT OF HEALTH AND HUMAN SERVICES

Centers for Disease Control and Prevention

Notice of Award of a Sole Source Cooperative Agreement To Fund National Tuberculosis Control Program (NTCP)

AGENCY: Centers for Disease Control and Prevention (CDC), Department of Health and Human Services (HHS).

ACTION: Notice.

SUMMARY: The Centers for Disease Control and Prevention (CDC), located within the Department of Health and Human Services (HHS), announces the award(s) of approximately $3,000,000, for Year 1 funding to NTCP. The award will improve the capacity of the health system at national, regional, district, and facility levels to provide an effective public health response for Tuberculosis (TB) and human immunodeficiency virus (HIV) co-infection in Cameroon, reduce disease burden, and contribute to achieving and sustaining epidemic control. Funding amounts for years 2-5 will be set at continuation.

DATES: The period for this award will be September 30, 2024, through September 29, 2029.

FOR FURTHER INFORMATION CONTACT: F.E. Harrison, Center for Global Health, Centers for Disease Control and Prevention, telephone: (404) 639-6095, email: ckv3@cdc.gov.

SUPPLEMENTARY INFORMATION: This sole source award will accelerate progress in reducing the burden of TB and TB/HIV co-infection in Cameroon through a multistakeholder approach.

NTCP is in a unique position to conduct this work, as it is the only institution that has the legal mandate to develop and implement the national strategic plan for TB control, which aims to reduce the morbidity and mortality associated with TB.

Summary of the Award

Recipient: National Tuberculosis Control Program (NTCP).

Purpose of the Award: The purpose of this award is to improve the capacity of the health system at national, regional, district, and facility levels to provide an effective public health response for TB and HIV co-infection in Cameroon, reduce disease burden, and contribute to achieving and sustaining epidemic control.

Amount of Award: For NTCP, the approximate year 1 funding amount will be $3,000,000 in Federal Fiscal Year (FYY) 2024 funds, subject to the availability of funds. Funding amounts for years 2-5 will be set at continuation.

Authority: This program is authorized under Public Law 108-25 (the United States Leadership Against HIV AIDS, Tuberculosis and Malaria Act of 2003) (22 U.S.C. 7601, et seq.) and Public Law 110-293 (the Tom Lantos and Henry J. Hyde United States Global Leadership Against HIV/AIDS, Tuberculosis, and Malaria Reauthorization Act of 2008), and Public Law 113-56 (PEPFAR Stewardship and Oversight Act of 2013).

Period of Performance: The period for this award will be September 30, 2024, through September 29, 2029.

Dated: March 13, 2024.
Jamie Legier,
Acting Director, Office of Grants Services, Centers for Disease Control and Prevention.

[FR Doc. 2024-05772 Filed 3-18-24; 8:45 am]

BILLING CODE 4163-18-P